DEPARTMENT OF HEALTH AND HUMAN SERVICES

Centers for Disease Control and Prevention

[RFA IP05-091]

Improving Vaccination Coverage in the Greater than 65 Years of Age Population; Notice of Availability of Funds—Amendment

A notice announcing the availability of fiscal year (FY) 2006 funds for a cooperative agreement for Improving Vaccination Coverage in the Greater than 65 Years of Age Population was published in the Federal Register, Thursday, May 12, 2005, Volume 70, Number 91, pages 25075-25079.

The notice is amended as follows: Page 25076, first column, Letter of Intent Deadline, delete June 13, 2005, and replace with August 15, 2005. Page 25076, first column, Application Deadline, delete June 27, 2005, and replace with August 31, 2005. Page 25076, third column, Fiscal Year Funds, delete 2005, and replace with 2006. Page 25076, third column, Anticipated Award Date, delete August 31, 2005, and replace with November 30, 2005. Page 25077, third column, LOI Deadline Date, delete June 13, 2005, and replace with August 15, 2005. Page 25077, third column, Application Deadline Date, delete June 27, 2005, and replace with August 31, 2005. Page 25079, first column, Award Date, delete August 31, 2005, and replace with November 30, 2005.

Dated: June 2, 2005.
William P. Nichols,
Director, Procurement and Grants Office, Centers for Disease Control and Prevention.

[FR Doc. 05-11524 Filed 6-9-05; 8:45 am]

BILLING CODE 4163-18-P